DEPARTMENT OF THE INTERIOR

Bureau of Land Management

[UT-910-08-1150-PH-24-1A]

Notice of Utah's Recreation Resource Advisory Committee Meeting

AGENCY: Bureau of Land Management, Department of Interior.

ACTION: Notice of Utah's Recreation Resource Advisory Committee (RRAC) Meeting.

SUMMARY: In accordance with the Federal Land Policy and Management Act (FLPMA) and The Federal Advisory Committee Act of 1972 (FACA), the U.S. Department of the Interior, Bureau of Land Management's (BLM) Utah Recreation Resource Advisory Committee (RRAC) will meet as indicated below.

DATES: The Utah Recreation Resource Advisory Committee (RRAC) will meet March 13 (1 p.m.-5 p.m.) and March 14, 2008 (8 a.m.-Noon) in Moab, Utah.

ADDRESSES: The RRAC will meet at the La Quinta Inn, Castle Rock Conference Room, 815 South Main Street, Moab, Utah 84532.

FOR FURTHER INFORMATION: Contact Sherry Foot, Special Programs Coordinator, Utah State Office, Bureau of Land Management, P.O. Box 45155, Salt Lake City, Utah 84145-0155; phone (801) 539-4195.

SUPPLEMENTARY INFORMATION: The 15-member Council advises the Secretary of the Interior, through the Bureau of Land Management, on a variety of planning and management issues associated with public land management in Utah. The Recreation Resource Advisory Committee will be given recreation fee presentations from the BLM's Monticello Field Office (Cedar Mesa/Kane Gulch), the Price Field Office (Cleveland Lloyd Dinosaur Quarry) and from the U.S. Forest Service—Flaming Gorge NRA, American Fork Canyon, Mirror Lake Corridor, Manti-La Sal REA Program and Fishlake Campground. On March 14, a half-hour public comment period is scheduled to begin from 10:45 a.m.-11:15 a.m. Written comments may be sent to the Bureau of Land Management addressed listed above. All meetings are open to the public; however, transportation, lodging, and meals are the responsibility of the participating public.

Dated: February 5, 2008.
Jeff Rawson,
Acting State Director.

[FR Doc. E8-2546 Filed 2-12-08; 8:45 am]

BILLING CODE 4310-$$-P